ENVIRONMENTAL PROTECTION AGENCY

[EPA-HQ-OECA-2012-0498; FRL-9992-41-OMS]

Information Collection Request Submitted to OMB for Review and Approval; Comment Request; NSPS for Coal Preparation and Processing Plants (Renewal)

AGENCY: Environmental Protection Agency (EPA).

ACTION: Notice.

SUMMARY: The Environmental Protection Agency (EPA) has submitted an information collection request (ICR), NSPS for Coal Preparation and Processing Plants (EPA ICR Number 1062.15, OMB Control Number 2060-0122), to the Office of Management and Budget (OMB) for review and approval in accordance with the Paperwork Reduction Act. This is a proposed extension of the ICR, which is currently approved through May 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 29, 2019.

ADDRESSES: Submit your comments, referencing Docket ID Number EPA-HQ-OECA-2012-0498, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, EPA West, Room 3334, 1301 Constitution Ave. NW, Washington, DC. The telephone number for the Docket Center is 202-566-1744. For additional information about EPA's public docket, visit: http://www.epa.gov/dockets.

Abstract: The New Source Performance Standards (NSPS) for Coal Preparation and Processing Plants (40 CFR part 60, subpart Y) were proposed on October 24, 1974, promulgated on January 15, 1976, and amended on October 8, 2009. These regulations apply to both existing facilities and new facilities that perform coal preparation and processing activities. New facilities include those that commenced construction, modification or reconstruction after the date of proposal. This information is being collected to assure compliance with 40 CFR part 60, subpart Y.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Coal preparation and processing facilities.

Respondent's obligation to respond: Mandatory (40 CFR part 60, subpart Y).

Estimated number of respondents: 757 (total).

Frequency of response: Initially and semiannually.

Total estimated burden: 35,300 hours (per year). Burden is defined at 5 CFR 1320.3(b).

Total estimated cost: $4,090,000 (per year), which includes $65,600 in annualized capital/startup and/or operation & maintenance costs.

Changes in the Estimates: There is an adjustment decrease in the total estimated burden as currently identified in the OMB Inventory of Approved Burdens; this decrease is not due to any program changes. The decrease in burden is due to more accurate estimates of existing sources, based on information gathered by EPA and confirmed by industry. The burden in this ICR reflects a decrease in the number of coal mines across the industry and a number of coal plants being shut down or converted to natural gas. The decrease in the number of respondents also results in a decrease in responses and operation and maintenance costs. This ICR also corrects the burden associated with observation and notification of Method 9 and Method 5 testing for facilities subject to the 2009 final rule (74 FR 51977). The previous ICR inadvertently excluded the costs for supervision and notification of repeat performance tests, which have been included in this renewal.

Courtney Kerwin,
Director, Regulatory Support Division.

[FR Doc. 2019-08507 Filed 4-26-19; 8:45 am]

BILLING CODE 6560-50-P